ENVIRONMENTAL PROTECTION AGENCY

[FRL-9997-93-OA]

Notice of Meeting of the EPA Children's Health Protection Advisory Committee (CHPAC)

AGENCY: Environmental Protection Agency (EPA).

ACTION: Notice of meeting.

SUMMARY: Pursuant to the provisions of the Federal Advisory Committee Act, notice is hereby given that the next meeting of the Children's Health Protection Advisory Committee (CHPAC) will be held September 5 and 6, 2019 at Milken Institute School of Public Health, located at 950 New Hampshire Ave NW, Washington, DC 20052. Due to unforeseen administrative circumstances, EPA is announcing this meeting with less than 15 calendar days' notice. The CHPAC advises the Environmental Protection Agency (EPA) on science, regulations and other issues relating to children's environmental health.

DATES: September 5, 2019 from 9 a.m. to 5 p.m. and September 6, 2019 from 9 a.m. to 1 p.m.

ADDRESSES: 950 New Hampshire Ave. NW, Washington, DC 20052.

FOR FURTHER INFORMATION CONTACT: Nica Louie, Office of Children's Health Protection, U.S. EPA, MC 1107T, 1200 Pennsylvania Avenue NW, Washington, DC 20460, (202) 564-7633 or louie.nica@epa.gov.

SUPPLEMENTARY INFORMATION: The meetings of the CHPAC are open to the public. An agenda will be posted to https://www.epa.gov/children/childrens-health-protection-advisory-committee-chpac.

Access and Accommodations: For information on access or services for individuals with disabilities, please contact Nica Louie at 202-564-7633 or louie.nica@epa.gov.

Dated: July 10, 2019.
Nica Louie,
Environmental Health Scientist.

[FR Doc. 2019-18237 Filed 8-22-19; 8:45 am]

BILLING CODE 6560-50-P